DEPARTMENT OF HEALTH AND HUMAN SERVICES

Health Resources and Services Administration

Agency Information Collection Activities: Submission to OMB for Review and Approval; Public Comment Request; Rural Health Network Development Program, OMB No. 0906-0010—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than April 30, 2018.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Rural Health Network Development Program OMB No. 0906-0010—Revision.

Abstract: The purpose of the Rural Health Network Development (RHND) program is to support mature, integrated rural health care networks that have combined the functions of the entities participating in the network in order to address the health care needs of the targeted rural community. Awarded programs combine the functions of the entities participating in the network to create innovative solutions to local healthcare needs while addressing the following statutory charges: (i) Achieve efficiencies; (ii) expand access, coordinate, and improve the quality of essential health care services; and (iii) strengthen the rural health care system as a whole. RHND funded programs promote population health management and the transition towards value based care through diverse network membership that include traditional and non-traditional network partners collaborating to address the local healthcare needs of the targeted community. Evidence of program impact demonstrated by outcome data and program sustainability are integral components of the program. This is a 3-year competitive program for mature networks composed of at least three members that are separate, existing health care providers entities.

Need and Proposed Use of the Information: For this program, performance measures provide data to the program and to enable HRSA to provide aggregate program data. These measures cover the principal topic areas of interest to the Federal Office of Rural Health Policy, including: (a) Network infrastructure; (b) sustainability; (c) community impact; and (d) access and quality of healthcare. Several measures will be used for this program.

For this revised ICR, there are proposed changes to several measures that include network infrastructure, sustainability, community impact, and access and quality of healthcare.

Likely Respondents: The respondents would be RHND Program grant recipients.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Performance Improvement and Measurement System (PIMS) Database | 51 | 1 | 51 | 6 | 306
Total | 51 |  | 51 |  | 306

Amy McNulty,
Acting Director, Division of the Executive Secretariat.

[FR Doc. 2018-06431 Filed 3-29-18; 8:45 am]

BILLING CODE 4165-15-P